INTERNATIONAL TRADE COMMISSION

[Investigation No. 337-TA-634]

In the Matter of Certain Liquid Crystal Display Modules, Products Containing Same, and Methods Using the Same; Final Commission Determination of Violation; Issuance of a Limited Exclusion Order and Cease and Desist Orders; and Termination of the Investigation

AGENCY: U.S. International Trade Commission.

ACTION: Notice.

SUMMARY: Notice is hereby given that the U.S. International Trade Commission has terminated the above-captioned investigation with a finding of violation of section 337, and has issued a limited exclusion order directed against products of respondents Samsung Electronics Co., Ltd. of Korea; Samsung Electronics America, Inc. of Ridgefield Park, New Jersey; and Samsung Semiconductor, Inc. of San Jose, California; and has issued cease and desist orders against Samsung Electronics America, Inc. and Samsung Semiconductor, Inc.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 4, 2008, based on a complaint filed by Sharp Corporation (“Sharp”) of Japan. 73 FR 11678. The complaint, as amended and supplemented, alleges violations of section 337 of the Tariff Act of 1930, as amended, 19 U.S.C. 1337, in the importation into the United States, the sale for importation, and the sale within the United States after importation of certain liquid crystal display devices, products containing same, and methods for using the same by reason of infringement of certain claims of U.S. Patent Nos. 6,879,364 (“the '364 patent”); 6,952,192 (“the '192 patent”); 7,304,703 (“the '703 patent”); and 7,304,626 (“the '626 patent”). The complaint further alleges the existence of a domestic industry. The Commission's notice of investigation named the following respondents: Samsung Electronics Co., Ltd. of Korea; Samsung Electronics America, Inc. of Ridgefield Park, New Jersey; and Samsung Semiconductor, Inc. of San Jose, California (collectively, “Samsung”).

On June 12, 2009, the ALJ issued his final ID finding a violation of section 337 by Samsung. He also issued his recommendation on remedy and bonding during the period of Presidential review. On June 29, 2009, Samsung and the Commission investigative attorney (“IA”) filed petitions for review of the final ID. The IA and Sharp filed responses to the petitions on July 7, 2009. On September 9, 2009, the Commission issued notice of its determination not to review the ALJ's final ID and requested written submissions on the issues of remedy, the public interest, and bonding from the parties and interested non-parties. 74 FR 47616-17 (Sept. 16, 2009).

On September 16 and 23, 2009, respectively, complainant Sharp, the Samsung respondents, and the IA filed briefs and reply briefs on the issues for which the Commission requested written submissions. On September 21, 2009, Samsung filed a petition for reconsideration of the Commission's determination not to review certain portions of the final ID. On October 19, 2009, the Commission issued an order denying the petition for reconsideration.

On October 30, 2009, Samsung filed a supplemental submission on the issues of remedy, the public interest, and bonding. On November 2 and 3, 2009, respectively, Sharp and the IA filed a response to Samsung's supplemental submission.

The Commission has made its determination on the issues of remedy, the public interest, and bonding. The Commission has determined that the appropriate form of relief is both: (1) A limited exclusion order prohibiting the unlicensed entry of LCD devices, including display panels and modules, and products containing the same that infringe one or more of (i) claims 5-7 of the '364 patent; (ii) claims 1 and 4 of the '192 patent; (iii) claims 1-2, 6-8, 13-14, and 16-17 of the '703 patent; and (iv) claims 10, 17, and 20 of the '626 patent, where the infringing LCD devices are manufactured abroad by or on behalf of, or are imported by or on behalf of, Samsung, or any of its affiliated companies, parents, subsidiaries, licensees, contractors, or other related business entities, or successors or assigns; and (2) cease and desist orders prohibiting Samsung Electronics America, Inc. and Samsung Semiconductor, Inc. from conducting any of the following activities in the United States: Importing, selling, marketing, advertising, distributing, offering for sale, transferring (except for exportation), and soliciting U.S. agents or distributors for, LCD devices, including display panels and modules, and products containing the same that infringe one or more of (i) Claims 5-7 of the '364 patent; (ii) claims 1 and 4 of the '192 patent; (iii) claims 1-2, 6-8, 13-14, and 16-17 of the '703 patent; and (iv) claims 10, 17, and 20 of the '626 patent.

The Commission further determined that the public interest factors enumerated in section 337(d)(1) (19 U.S.C. 1337(d)(1)) do not preclude issuance of the limited exclusion order or the cease and desist order. Finally, the Commission determined that a 100 percent bond of the entered value of the covered products is required to permit temporary importation during the period of Presidential review (19 U.S.C. 1337(j)). The Commission's orders and opinion were delivered to the President and to the United States Trade Representative on the day of their issuance.

The Commission has terminated this investigation. The authority for the Commission's determination is contained in section 337 of the Tariff Act of 1930, as amended (19 U.S.C. 1337), and in sections 210.42, 210.45, and 210.50 of the Commission's Rules of Practice and Procedure (19 CFR 210.42, 210.45, 210.50).

Issued: November 9, 2009.
By order of the Commission.
Marilyn R. Abbott,
Secretary to the Commission.

[FR Doc. E9-27374 Filed 11-13-09; 8:45 am]

BILLING CODE 7020-06-P